DEPARTMENT OF TRANSPORTATION

Federal Aviation Administration

14 CFR Part 39

[Docket No. FAA-2013-0446; Product Identifier 2010-SW-007-AD]

RIN 2120-AA64

Airworthiness Directives; Airbus Helicopters Deutschland GmbH (Previously Eurocopter Deutschland GmbH) Helicopters

AGENCY: Federal Aviation Administration (FAA), DOT.

ACTION: Notice of proposed rulemaking (NPRM).

SUMMARY: We propose to revise Airworthiness Directive (AD) 2013-21-05 for Eurocopter Deutschland GmbH (now Airbus Helicopters Deutschland GmbH) (Airbus Helicopters) Model EC135 P1, P2, P2+, T1, T2, and T2+ helicopters. AD 2013-21-05 requires an initial and repetitive inspections of certain bearings and modifying the floor and a rod. Since we issued AD 2013-21-05, we have determined that modifying the floor and rod removes the unsafe condition. This proposed AD would retain the requirements of AD 2013-21-05 but remove the repetitive inspections. The actions of this proposed AD are intended to prevent an unsafe condition on these products.

DATES: We must receive comments on this proposed AD by June 1, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2013-0446; or in person at the Docket Operations between 9 a.m. and 5 p.m., Monday through Friday, except Federal holidays. The AD docket contains this proposed AD, the European Aviation Safety Agency (EASA) AD, the economic evaluation, any comments received and other information. The street address for the Docket Operations (telephone 800-647-5527) is in the ADDRESSES section. Comments will be available in the AD docket shortly after receipt. For service information identified in this proposed rule, contact Airbus Helicopters, 2701 N. Forum Drive, Grand Prairie, TX 75052; telephone (972) 641-0000 or (800) 232-0323; fax (972) 641-3775; or at http://www.airbushelicopters.com/website/technical-expert/. You may review service information at the FAA, Office of the Regional Counsel, Southwest Region, 10101 Hillwood Pkwy, Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We issued AD 2013-21-05, Amendment 39-17629 (78 FR 65169, October 31, 2013) (AD 2013-21-05) for Eurocopter Deutschland GmbH (now Airbus Helicopters) Model EC135 P1, P2, P2+, T1, T2, and T2+ helicopters with bearing part number (P/N) LN9367GE6N2; rod P/N L671M5040205; lever P/N L671M5040101; and floor P/N L533M1014101, L533M1014102, L533M1014103, L533M1014104, L533M1014105 or L533M1014106 installed. AD 2013-21-05 requires inspecting each bearing for freedom of movement within 100 hours time-in-service (TIS) and thereafter at intervals not to exceed 800 hours TIS. AD 2013-21-05 also requires modifying the floor and modifying and re-identifying the rod with a new P/N. AD 2013-21-05 was prompted by an incident involving limited control of a tail rotor because of the binding of a bearing. Those actions are intended to detect and prevent the binding of a bearing, which could lead to loss of helicopter control.

AD 2013-21-05 was also prompted by AD 2006-0318 R1, dated October 27, 2006, issued by EASA, which is the Technical Agent for the Member States of the European Union, issued to correct an unsafe condition for all Eurocopter Model EC 135 helicopters. EASA advised of an incident of impaired control of an EC 135 tail rotor. EASA stated that according to examinations, the bearing of the linear transducer was subject to binding, which limited the control range.

Actions Since AD 2013-21-05 Was Issued

After we issued AD 2013-21-05, EASA determined, based on a review of data and operator feedback, that repetitive inspections are not required for helicopters with the modified rod and floor. EASA accordingly revised its AD and issued AD No. 2006-0318R2, dated April 25, 2017, to remove the repetitive inspections.

Also since we issued AD 2013-21-05, Eurocopter Deutschland GmbH Helicopters changed its name to Airbus Helicopters Deutschland GmbH. This proposed AD reflects that change and updates the contact information to obtain service documentation. Additionally, the FAA's Aircraft Certification Service has changed its organizational structure. The new structure replaces product directorates with functional divisions. We have revised some of the office titles and nomenclature throughout this proposed AD to reflect the new organizational changes. Additional information about the new structure can be found in the Notice published on July 25, 2017 (82 FR 34564).

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information Under 1 CFR Part 51

We reviewed Eurocopter Alert Service Bulletin EC135-67A-012, Revision 1, dated October 18, 2006 (ASB Rev 1), which specifies repetitively inspecting the bearing of the linear transducer for freedom of movement and the lower side of the floor for chafing or damage. If there is binding, ASB Rev 1 specifies replacing the bearing. If there is chafing or damage on the floor, ASB Rev 1 specifies replacing the bearing and repairing the floor. ASB Rev 1 also specifies modifying and re-identifying a certain rod.

This service information is reasonably available because the interested parties have access to it through their normal course of business or by the means identified in the ADDRESSES section.

Other Related Service Information

We also reviewed Airbus Helicopters Alert Service Bulletin EC135-67A-012, Revision 2, dated April 3, 2017 (ASB Rev 2). ASB Rev 2 states that the repetitive inspection has been added to the helicopter maintenance manual. The repetitive inspection is therefore removed, and ASB Rev 2 requires no action. ASB Rev 1 is attached to ASB Rev 2 as an Appendix.

Proposed AD Requirements

This proposed AD would remove the repetitive 800-hour TIS bearing inspection that is currently required. This proposed AD would continue to require inspecting each bearing for freedom of movement within 100 hours TIS, and replacing the bearing before further flight if there is binding or rough turning. If there is chafing or damage on the lower side of the floor, this proposed AD would require, before further flight, replacing the bearing and repairing the floor, and thereafter installing a Teflon strip. This proposed AD would also require modifying and re-identifying the rod and lever with a new part number.

Differences Between This Proposed AD and the EASA AD

The EASA AD sets compliance times from its original effective date of October 20, 2006, and this proposed AD would not. This proposed AD would require modifying each rod within 100 hours TIS, rather than within 800 hours TIS as specified in the EASA AD. This proposed AD would not require contacting Eurocopter customer support, unlike the EASA AD. Finally, this proposed AD would not apply to Airbus Helicopters Model EC635 T1, EC635 P2+, and EC635 T2+ helicopters because they have no FAA type certificate.

Costs of Compliance

We estimate that this proposed AD would affect 304 helicopters of U.S. Registry and that labor costs average $85 a work hour. We estimate it would take about 10 work-hours to inspect the bearing and no parts or materials would be required, for a cost of $850 per helicopter and $258,400 for the U.S. fleet. If necessary, replacing the bearing would require 3 additional work-hours, and parts would cost $50, for a cost of $305 per helicopter. Repairing the floor would require 3 additional work hours and minimal cost for materials, for a cost of $255 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-21-05, Amendment 39-17629 (78 FR 65169, October 31, 2013), and adding the following new AD:

Airbus Helicopters Deutschland GmbH (Previously Eurocopter Deutschland GmbH): Docket No. FAA-2013-0446; Product Identifier 2010-SW-007-AD.

(a) Applicability

This AD applies to Model EC135 P1, P2, P2+, T1, T2, and T2+ helicopters, with bearing, part number (P/N) LN9367GE6N2; rod, P/N L671M5040205; lever, P/N L671M5040101; and floor, P/N L533M1014101, L533M1014102, L533M1014103, L533M1014104, L533M1014105 or L533M1014106, installed, certificated in any category.

(b) Unsafe Condition

This AD defines the unsafe condition as limited control of a tail rotor because of the binding of a bearing. This condition could result in subsequent loss of control of the helicopter.

(c) Affected ADs

This AD replaces AD 2013-21-05, Amendment 39-17629 (78 FR 65169, October 31, 2013).

(d) Comments Due Date

We must receive comments by June 1, 2018.

(e) Compliance

You are responsible for performing each action required by this AD within the specified compliance time unless it has already been accomplished prior to that time.

(f) Required Actions

(1) Within 100 hours time-in-service (TIS), inspect each bearing for freedom of movement by turning and tilting the bearing as depicted in Figure 2 of Eurocopter Alert Service Bulletin No. EC135-67A-012, Revision 1, dated October 18, 2006 (ASB). During any inspection:

(i) If there is binding or rough turning, before further flight, replace the bearing with an airworthy bearing.

(ii) If there is chafing on the lower side of the floor that does not extend through the panel outer layer, before further flight, replace the bearing with an airworthy bearing.

(iii) If there is damage on the lower side of the floor in the area of the assembly opening that extends through the panel outer layer (revealing an open honeycomb cell or layer), before further flight, replace the bearing with an airworthy bearing and repair the floor.

(2) After performing the actions in paragraphs (f)(1)(i) through (iii) of this AD, before further flight, install a Teflon strip and identify the floor by following the Accomplishment Instructions, paragraphs 3.E.(1) through 3.E.(4), of the ASB.

(3) Within 100 hours TIS, modify and re-identify the rod as depicted in Figure 1 of the ASB and by following the Accomplishment Instructions, paragraphs 3.H.(1) through 3.H.(3)(f), of the ASB.

(g) Alternative Methods of Compliance (AMOCs)

(1) The Manager, Safety Management Section, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Airbus Helicopters Alert Service Bulletin No. EC135-67A-012, Revision 2, dated April 3, 2017, which is not incorporated by reference, contains additional information about the subject of this AD. For service information identified in this AD, contact Airbus Helicopters, 2701 N. Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy., Room 6N-321, Fort Worth, TX 76177.

(2) The subject of this AD is addressed in European Aviation Safety Agency (EASA) AD No. 2006-0318R2, dated April 25, 2017. You may view the EASA AD on the internet at http://www.regulations.gov in the AD Docket.

(i) Subject

Joint Aircraft Service Component (JASC) Code: 6720, Tail Rotor Control System.

Issued in Fort Worth, Texas, on March 23, 2018.
Lance T. Gant,
Director, Compliance & Airworthiness Division, Aircraft Certification Service.

[FR Doc. 2018-06448 Filed 3-30-18; 8:45 am]

BILLING CODE 4910-13-P